DEPARTMENT OF COMMERCE

National Oceanic and Atmospheric Administration

[RTID: 0648-XV195]

Membership of the National Oceanic and Atmospheric Administration Performance Review Board

AGENCY: National Oceanic and Atmospheric Administration (NOAA), Department of Commerce (DOC).

ACTION: Notice of membership of the 2023 NOAA Performance Review Board.

SUMMARY: NOAA announces the appointment of members who will serve on the 2023 NOAA Performance Review Board (PRB). The NOAA PRB is responsible for reviewing performance appraisals and ratings of Senior Executive Service (SES), Senior Level (SL), and Scientific and Professional (ST) members and making written recommendations to the appointing authority on retention and compensation matters, including performance-based pay adjustments, awarding of bonuses, and reviewing recommendations for potential Presidential Rank Award nominees. The appointment of members to the NOAA PRB will be for a period of 2 years.

DATES: The effective date of service of the 10 appointees to the NOAA Performance Review Board is October 23-27, 2023.

FOR FURTHER INFORMATION CONTACT: Mr. Charles A. McLeod, Human Resources Specialist, Executive Resources Division, Office of Human Capital Services, NOAA, 1305 East-West Highway, Silver Spring, Maryland 20910, 301-628-1883 or Charles.mcleod@noaa.gov.

SUPPLEMENTARY INFORMATION: The names and positions of the members for the 2023 NOAA PRB are set forth below:

• Juliana Blackwell, Chair: Director, Office of National Geodetic Survey, National Ocean Service, NOAA

• Michelle McClure, Vice-Chair: Director, Pacific Marine Environmental Laboratory, NOAA

• James St. Pierre: Acting Director, Information Technology Laboratory, National Institute of Standards and Technology

• Jonathan Hare: Science and Research Director, Northeast Region, National Marine Fisheries Service, NOAA

• Timothy Greten: Director, Office of Facilities, National Weather Service, NOAA

• Deirdre Jones: Chief Administrative Officer, NOAA

• Makeda Okolo: Director, Office of Legislative & Intergovernmental Affairs, NOAA

• Elsayed Talaat: Office of Projects, Partnerships and Analysis, National Environmental Satellite, Data and Information Service, NOAA

• Kevin Kimball: Chief of Staff, National Institute of Standards and Technology

• Kenneth Harding: Chief Operating Officer, National Weather Service, NOAA

• Bruce Pitts: Deputy Chief Administrative Officer, NOAA

• Jennifer Mahoney: Director, Global Systems Laboratory, Office of Oceanic and Atmospheric Research, NOAA

• Timothy Walsh: Director, Joint Polar Satellite Systems, National Environmental Satellite, Data and Information Service, NOAA

• Karen Hyun, Chief of Staff, NOAA

Richard W. Spinrad,
Under Secretary of Commerce for Oceans and Atmosphere and NOAA Administrator.

[FR Doc. 2023-22731 Filed 10-13-23; 8:45 am]

BILLING CODE 3510-12-P